DEPARTMENT OF COMMERCE

Patent and Trademark Office

Agency Information Collection Activities; Submission to the Office of Management and Budget (OMB) for Review and Approval; Comment Request; Trademark Post Registration

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on July 25, 2024 during a 60-day comment period (89 FR 60405). This notice allows for an additional 30 days for public comment.

Agency: United States Patent and Trademark Office, Department of Commerce.

Title: Trademark Post Registration.

OMB Control Number: 0651-0055.

Needs and Uses: The United States Patent and Trademark Office (USPTO) administers the Trademark Act (Act), 15 U.S.C. 1501 et seq., which provides for the federal registration of trademarks, service marks, collective trademarks and service marks, collective membership marks, and certification marks. Individuals and businesses that use or intend to use such marks in commerce may file an application to register their marks with the USPTO.

This information collection covers various communications submitted by individuals and businesses to the USPTO after the registration of a trademark. One type of communication is a request to amend a registration to delete goods or services that are no longer being used by the owner. Registered marks remain on the register for 10 years and can be renewed, but will be cancelled unless the owner files with the USPTO a declaration attesting to the continued use (or excusable non-use) of the mark in commerce, and a renewal application, with specific deadlines. Owners may also request to amend or divide a registration, respond to a post-registration office action, and surrender a registration.

The regulations implementing the Act are set forth in 37 CFR part 2. These regulations mandate that each register entry include the mark, the goods and/or services in connection with which the mark is used, ownership information, dates of use, and certain other information. The information in this information collection is used to maintain the quality of the trademark register. The register may be accessed by an individual or by businesses to determine the availability of a mark. By keeping the register current and accurate, parties may reduce the possibility of initiating use of a mark previously adopted by another.

This information collection also incorporates responses to office actions related to ex parte expungements and reexaminations and Director-initiated expungements and reexaminations (accounted for under Reponses to Office Actions for Post-Registration Matters (PTO-2302). Ex parte expungement and reexamination proceedings were established by the Trademark Modernization Act of 2020 (TMA), Public Law 116-260 (Dec. 27, 2020), to cancel, either in whole or in part, registered marks for which the required use in commerce was not made. The burden estimates for responses to office actions regarding ex parte expungements or reexaminations and Director-initiated expungements and reexaminations were previously contained in OMB Control No. 0651-0086 (Changes to Implement Provisions of the Trademark Modernization Act), but are being transferred into this information collection for efficiency. All the burdens associated with responses to office actions from 0651-0086 are now being accounted for under IC No. 7 (Response to Office Action for Post-Registration Matters) in this information collection. The 60-day notice, published for this information collection, already accounted for the burdens being transferred.

Forms:

• PTO-1563 (Declaration of Use of Mark in Commerce Under Section 8)

• PTO-1573 (Declaration of Incontestability of a Mark Under Section 15)

• PTO-1583 (Combined Declaration of Use and Incontestability Under Sections 8 and 15)

• PTO-1597 (Section 7 Request)

• PTO-1963 (Combined Declaration of Use of Mark in Commerce and Application for Renewal of Registration of a Mark Under Sections 8 and 9)

• PTO-2302 (Response to Office Action for Post-Registration Matters)

• PTO-2309 (Surrender of Registration for Cancellation)

• PTO-2310 (Request to Divide Registration)

• PTO-2311 (Section 12(c) Affidavit)

Type of Review: Extension and revision of a currently approved information collection.

Affected Public: Private sector.

Respondent's Obligation: Required to obtain or retain benefits.

Frequency: On occasion.

Estimated Number of Annual Respondents: 271,793 respondents.

Estimated Number of Annual Responses: 271,793 responses.

Estimated Time per Response: The USPTO estimates that the responses in this information collection will take the public approximately between 12 minutes (0.20 hours) and 50 minutes (0.83 hours) to complete. This includes the time to gather the necessary information, create the document, and submit the completed request to the USPTO.

Estimated Total Annual Respondent Burden Hours: 162,987 hours.

Estimated Total Annual Respondent Non-Hourly Cost Burden: $103,718,072.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0055.

Further information can be obtained by:

• Email: InformationCollection@uspto.gov. Include “0651-0055 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2024-24251 Filed 10-18-24; 8:45 am]

BILLING CODE 3510-16-P